DEPARTMENT OF DEFENSE

Office of the Secretary

[Transmittal No. 23-56]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-56, Policy Justification, and Sensitivity of Technology.

Dated: May 27, 2025.
Aaron T. Siegel,
Alternate OSD Federal Register Liaison Officer, Department of Defense.

Transmittal No. 23-56

Notice of Proposed Issuance of Letter of Offer Pursuant to Section 36(b)(1) of the Arms Export Control Act, as amended

(i) Prospective Purchaser: Government of Morocco

(ii) Total Estimated Value:

Major Defense Equipment * | $180 million
Other | $ 80 million
TOTAL | $260 million

Funding Source: National Funds

(iii) Description and Quantity or Quantities of Articles or Services under Consideration for Purchase:

Major Defense Equipment (MDE):

Six hundred twelve (612) Javelin FGM-148F Missiles (includes twelve (12) Fly-to-Buy Missiles)

Two hundred (200) Javelin Lightweight Command Launch Units (LWCLUs)

Non-MDE:

Also included are missile simulation rounds; Javelin support equipment; hand and measuring tools; books and publications; power plus distribution equipment; component parts and support equipment; life cycle support and other technical assistance; gunner training; ammunition officer's training; System Integration and Check Out (SICO); maintenance training; Tactical Aviation and Ground Munitions (TAGM); and other related elements of logistics and program support.

(iv) Military Department: Army (MO-B-UUG)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: March 19, 2024

* As defined in Section 47(6) of the Arms Export Control Act.

POLICY JUSTIFICATION

Morocco—Javelin Missiles

The Government of Morocco has requested to buy six hundred twelve (612) Javelin FGM-148F missiles (includes twelve (12) fly-to-buy missiles) and two hundred (200) Javelin Lightweight Command Launch Units (LWCLUs). Also included are missile simulation rounds; Javelin support equipment; hand and measuring tools; books and publications; power plus distribution equipment; component parts and support equipment; life cycle support and other technical assistance; gunner training; ammunition officer's training; System Integration and Checkout (SICO); maintenance training; Tactical Aviation and Ground Munitions (TAGM); and other related elements of logistics and program support. The total estimated cost is $260 million.

This proposed sale will support the foreign policy and national security of the United States by helping to improve the security of a Major Non-NATO Ally that continues to be an important force for political stability and economic progress in North Africa.

The proposed sale will improve Morocco's long-term defense capacity to defend its sovereignty and territorial integrity and to meet its national defense requirements. Morocco will have no difficulty absorbing this equipment into its armed forces.

The proposed sale of this equipment and support will not alter the basic military balance in the region.

The prime contractors will be the Javelin Joint Venture between Lockheed Martin in Orlando, FL, and RTX Corporation in Tucson, AZ. There are no known offset agreements in connection with this potential sale.

Implementation of this proposed sale will not require the assignment of U.S. Government or contractor representatives to Morocco.

There will be no adverse impact on U.S. defense readiness as a result of this proposed sale.

Transmittal No. 23-56

Notice of Proposed Issuance of Letter of Offer Pursuant to Section 36(b)(1) of the Arms Export Control Act

Annex

Item No. vii

(vii) Sensitivity of Technology:

1. The Javelin Weapon System is a medium-range, man portable, shoulder-launched, fire and forget, anti-tank system for infantry, scouts, and combat engineers. It may also be mounted on a variety of platforms including vehicles, aircraft, and watercraft. The system weighs 49.5 pounds and has a maximum range in excess of 2,500 meters. The system is highly lethal against tanks and other systems with conventional and reactive armors. The system possesses a secondary capability against bunkers.

2. Javelin's key technical feature is the use of fire-and-forget technology which allows the gunner to fire and immediately relocate or take cover. Additional special features are the top attack and direct fire modes, an advanced tandem warhead and imaging infrared seeker, target lock-on before launch, and soft launch from enclosures or covered fighting positions. The Javelin missile also has a minimum smoke motor that decreases the chance of it being detected on the battlefield.

3. The Javelin Weapon System is comprised of two major tactical components, a reusable Light Weight Command Launch Unit (LWCLU) and a round contained in a disposable launch tube assembly. The LWCLU incorporates an integrated day/night sight that provides target engagement capability in adverse weather and countermeasure environments. The LWCLU may also be used in a stand-alone mode for battlefield surveillance and target detection. The LWCLU's thermal sight includes an advanced Forward Looking Infrared (FLIR) sensor. To facilitate initial loading and subsequent updating of software, all on-board missile software is uploaded via the LWCLU after mating and prior to launch.

4. The missile is autonomously guided to the target using an imaging infrared seeker and adaptive correlation tracking algorithms. This allows the gunner to take cover or reload and engage another target after firing a missile. The missile has an advanced tandem warhead and can be used in either the top attack or direct fire modes (for target under cover). An onboard flight computer guides the missile to the selected target.

5. The highest level of classification of defense articles, components, and services included in this potential sale is SECRET.

6. If a technologically advanced adversary obtains knowledge of the specific hardware and software elements, the information could be used to develop countermeasures or equivalent systems that might reduce weapon system effectiveness or be used in the development of a system with similar or advanced capabilities.

7. A determination has been made that Morocco can provide substantially the same degree of protection for the sensitive technology being released as the U.S. Government. This proposed sale is necessary to further the U.S. foreign policy and national security objectives outlined in the Policy Justification.

8. All defense articles and services listed on this transmittal are authorized for release and export to the Government of Morocco.

[FR Doc. 2025-09790 Filed 5-29-25; 8:45 am]

BILLING CODE 6001-FR-P